DEPARTMENT OF DEFENSE

Department of the Army

Record of Decision (ROD) for Fort Bliss Army Growth and Force Structure Realignment

AGENCY: Department of the Army, DoD.

ACTION: Notice of availability.

SUMMARY: The Department of the Army announces the availability of a ROD that documents and summarizes the implementation of the preferred alternative described in the Fort Bliss Army Growth and Force Structure Realignment Final Environmental Impact Statement (hereinafter referred to as the FEIS). The preferred alternative consists of actions in three different categories (stationing/training, land use changes, and training infrastructure improvements) of interrelated alternatives.

The following actions will be implemented as elements of the preferred alternative: The stationing of two Infantry Brigade Combat Teams (IBCTs), up to two Stryker Brigade Combat Teams (SBCTs), and various support units to Fort Bliss (Stationing Action Alternative 4); land use changes that allow fixed site bivouac areas, mission support facilities, live-fire ranges and off-road vehicle grounds in new locations in the vicinity of the Sacramento Mountains and areas of McGregor Range (Land Use Alternative 5); and training infrastructure improvements, including construction of new ranges to support the stationing of IBCTs and SBCTs, expansion of existing range camps, construction of 16 Contingency Operating Locations (COLs), and construction of a rail line connecting the Fort Bliss Cantonment to the Fort Bliss Training Complex (Training Infrastructure Alternative 4).

ADDRESSES: Copies of the ROD are available from Mr. John F. Barrera, IMWE-BLS-PWE, Building 624, Taylor Road, Fort Bliss, TX 79916-6812; e-mail: bliss.eis@conus.army.mil.

FOR FURTHER INFORMATION CONTACT: Ms. Jean Offutt, Public Affairs Officer, IMWE-BLS-PA; Fort Bliss, TX 79916-6812; telephone: (915) 568-4505; fax: (915) 568-2995; e-mail: jean.offutt@us.army.mil.

SUPPLEMENTARY INFORMATION: The ROD supports Army expansion, future stationing actions, and land use changes and training infrastructure improvements. These changes take advantage of Fort Bliss's varied terrain and full suite of training ranges which will allow collocation of heavy, light, and aviation combat units and support units.

Land use analysis focused primarily on the McGregor Range's northeast terrain, with minor changes in the southeast and Tularosa Basin portions to support light infantry training. None of the land use changes involve the Culp Canyon Wilderness Study Area or the Black Grama Grassland Area of Critical Environmental Concern.

Construction of additional firing ranges and the expansion or construction of administrative and training support facilities were also analyzed.

The effects of implementing the ROD alternatives included substantial erosion to interior range roads, requiring increased maintenance. Frequent overseas deployments will require an increase in training, which may reduce public and Native American access to some areas of the installation. Use of restricted airspace for military training will increase, making military scheduling of the airspace more complex. Training-related noise remains significant in areas adjacent to Dona Ana Range and portions of McGregor Range. The Army has identified measures in the FEIS to mitigate most of the significant environmental effects. The preferred alternatives may result in a small increase in the economic benefit provided by growth of the installation, and a small decrease in certain quality of life indicators (e.g., traffic, air quality).

The ROD, FEIS and other environmental documents are available on the Fort Bliss Web site (http://www.bliss.army.mil) or at the following locations: El Paso, TX: Richard Burges Regional Library, 9600 Dyer; Irving Schwartz Branch Library, 1865 Dean Martin; the Clardy Fox Branch Library, 5515 Robert Alva; Doris van Doren Regional Branch Library, 551 Redd Road; Las Cruces, NM: New Mexico State University Zuhl Library, 2999 McFie Circle; Alamogordo, NM: Alamogordo Public Library, 920 Oregon Avenue.

Dated: August 12, 2010.
Addison D. Davis, IV,
Deputy Assistant Secretary of the Army (Environment, Safety, and Occupational Health).

[FR Doc. 2010-21376 Filed 8-26-10; 8:45 am]

BILLING CODE 3710-08-P